DEPARTMENT OF JUSTICE

Notice of Lodging of Consent Decree Under the Comprehensive Environmental Response, Compensation and Liability Act (CERCLA)

Consistent with Section 122(d)(2) of CERCLA, 42 U.S.C. 9622(d)(2), and 28 CFR 50.7, notice is hereby given that on April 8, 2011, the proposed Consent Decree in United States v. John Williams, et al, Civil Action No. 11-00689-PHX-MEA, was lodged with the United States District Court for the District of Arizona. The proposed Consent Decree resolves the United States' claims under Section 107(a) of the Comprehensive Environmental Response, Compensation, and Liability Act, 42 U.S.C. 9607(a), against John M. Williams, Jr., Arizona Public Service Co., the Salt River Project, Public Service Company of New Mexico, and El Paso Electric Co. relating to response costs incurred and to be incurred by the United States Environmental Protection Agency (“EPA”) at or from a Site known as the Gila River Indian Reservation Removal Site, also referred to as the Gila River Boundary Site, located in Maricopa County, Arizona. The consent decree also resolves potential CERCLA counterclaims against the United States Department of the Interior.

Under the terms of the proposed consent decree, John M. Williams, Jr., Arizona Public Service Co., the Salt River Project, Public Service Company of New Mexico, El Paso Electric Co., and the United States Department of Interior will reimburse EPA in the amount of $462,500. EPA's total response costs are approximately $1 million.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. John Williams, Jr., Civil Action No. 11-00689-PHX-MEA (U.S.D.C. D. AZ) (DOJ Ref. No. 90-11-3-09420). The Consent Decree may be examined at U.S. Environmental Protection Agency, Office of Regional Counsel, EPA IX at 75 Hawthorne Street, San Francisco, California 94105. During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Henry Friedman,
Assistant Section Chief, Environmental Enforcement Section, Environment and Natural Resources Division.

[FR Doc. 2011-8912 Filed 4-12-11; 8:45 am]

BILLING CODE 4410-15-P